DEPARTMENT OF ENERGY

Orders Granting Authority To Import and Export Natural Gas, To Import and Export Liquefied Natural Gas, Amending Authority, Vacating Prior Authority, and Errata During March 2015

| FE Docket Nos.
DOWNEAST LNG, INC | 14-172-LNG
AMERICAN LNG MARKETING LLC | 14-209-LNG
LAKE CHARLES LNG EXPORT COMPANY, LLC (formerly known as TRUNKLINE LNG EXPORT LLC) | 13-04-LNG
CENTRA GAS MANITOBA INC | 15-12-NG
AECO GAS STORAGE PARTNERSHIP | 15-15-NG
PACIFICORP | 15-16-NG
JUST ENERGY NEW YORK CORP | 15-17-NG
JUST ENERGY ONTARIO L.P | 15-18-NG
GULF LNG ENERGY, L.L.C | 15-21-LNG
PLANET ENERGY CORP | 15-22-NG
HUDSON ENERGY SERVICES, LLC | 15-24-NG
ST. LAWRENCE GAS COMPANY, INC | 15-26-NG
SPARK ENERGY CANADA CORP | 15-27-NG
UNITED STATES GYPSUM COMPANY | 15-29-NG
DIVERSE-NRG, LLC | 15-30-LNG
EXCELERATE ENERGY GAS MARKETING, LIMITED PARTNERSHIP | 15-32-LNG
NEXTERA ENERGY POWER MARKETING, LLC | 15-34-NG
SPARK ENERGY CANADA CORP | 15-27-NG
HARTREE PARTNERS, L.P. (formerly HESS ENERGY TRADING COMPANY, LLC) | 15-31-NG
EL PASO MARKETING COMPANY, L.L.C | 15-41-NG
MARITIMES & NORTHEAST PIPELINE, L.L.C | 15-43-NG

AGENCY: Office of Fossil Energy, Department of Energy (DOE).

ACTION: Notice of orders.

SUMMARY: The Office of Fossil Energy (FE) of the Department of Energy gives notice that during March 2015, it issued orders granting authority to import and export natural gas, to import and export liquefied natural gas (LNG), amending authority, vacating prior authority and errata. These orders are summarized in the attached appendix and may be found on the FE Web site at http://energy.gov/fe/downloads/listing-doefe-authorizationsorders-issued-2015. They are also available for inspection and copying in the Office of Fossil Energy, Office of Oil and Gas Global Security and Supply, Docket Room 3E-033, Forrestal Building, 1000 Independence Avenue SW., Washington, DC 20585, (202) 586-9478. The Docket Room is open between the hours of 8:00 a.m. and 4:30 p.m., Monday through Friday, except Federal holidays.

Issued in Washington, DC, on September 29, 2015.
John A. Anderson,
Director, Office of Oil and Gas Global Security and Supply, Office of Oil and Natural Gas.

Appendix—DOE/FE Orders Granting Import/Export Authorizations
3600 | 14-172-LNG | 03/06/15 | Downeast LNG, Inc | Order granting long-term Multi-contract authority to export LNG by vessel from the proposed Downeast LNG Terminal in Robbinston, Maine to Free Trade Agreement Nations.
3601 | 14-209-LNG | 03/16/15 | American LNG Marketing LLC | Order granting long-term, Multi-contract authority to Export LNG in ISO Containers loaded at the proposed Hialeah Facility in Medley, Florida, and exported by vessel to Free Trade Agreement Nations.
3252-A | 13-04-LNG | 03/18/15 | Lake Charles LNG Export Company, LLC (formerly known as Trunkline LNG Export, LLC) | Order granting request to amend DOE/FE Order No. 3252 and pending application to reflect corporate name change.
3602 | 15-12-NG | 03/19/15 | Centra Gas Manitoba Inc | Order granting blanket authority to import/export natural gas from/to Canada.
3603 | 15-15-NG | 03/19/15 | AECO Gas Storage Partnership | Order granting blanket authority to import/export natural gas from/to Canada.
3604 | 15-16-NG | 03/19/15 | Pacificorp | Order granting blanket authority to import/export natural gas from/to Canada.
3605 | 15-17-NG | 03/19/15 | Just Energy New York Corp | Order granting blanket authority to import/export natural gas from/to Canada.
3606 | 15-18-NG | 03/19/15 | Just Energy Ontario L.P | Order granting blanket authority to import/export natural gas from/to Canada.
3607 | 15-21-LNG | 03/19/15 | Gulf LNG Energy, L.L.C | Order granting blanket authority to import LNG from various international sources.
3608 | 15-22-NG | 03/19/15 | Planet Energy Corp | Order granting blanket authority to import natural gas from Canada.
3609 | 15-24-NG | 03/19/15 | Hudson Energy Services LLC | Order granting blanket authority to import/export natural gas from/to Canada.
3610 | 15-26-NG | 03/19/15 | St. Lawrence Gas Company Inc | Order granting blanket authority to export natural gas to Canada.
3611 | 15-27-NG | 03/19/15 | Spark Energy Canada Corp | Order granting blanket authority to import/export natural gas from/to Canada.
3612 | 15-29-NG | 03/19/15 | United States Gypsum Company | Order granting blanket authority to import natural gas from Canada.
3613 | 15-30-LNG | 03/19/15 | Diverse-NRG, LLC | Order granting blanket authority to import/export LNG from/to Mexico by truck.
3614 | 15-32-LNG | 03/19/15 | Excelerate Energy Gas Marketing, Limited Partnership | Order granting blanket authority to import LNG from various international sources by vessel.
3615 | 15-34-NG | 03/19/15 | NextEra Energy Power Marketing, LLC | Order granting blanket authority to import/export natural gas from/to Canada.
Errata | 15-27-NG | 03/26/15 | Spark Energy Power Canada Corp | Errata correcting the effective date in DOE/FE Order No. 3611 in Ordering Paragraph A issued 3/19/15.
3616 | 15-31-NG | 03/26/15 | Hartree Partners, L.P. (formerly Hess Energy Trading Company, LLC) | Order granting blanket authority to import/export natural gas from/to Canada and vacating prior authority.
3617 | 15-41-NG | 03/26/15 | El Paso Marketing Company L.L.C | Order granting blanket authority to import/export natural gas from/to Canada/Mexico.
3618 | 15-43-NG | 03/26/15 | Maritimes & Northeast Pipeline, L.L.C | Order granting blanket authority to import/export natural gas from/to Canada.

[FR Doc. 2015-25230 Filed 10-2-15; 8:45 am]

BILLING CODE 6450-01-P